DEPARTMENT OF TRANSPORTATION

Federal Aviation Administration

14 CFR Part 39

[Docket No. FAA-2013-0340; Directorate Identifier 2010-SW-081-AD; Amendment 39-17630; AD 2013-21-06]

RIN 2120-AA64

Airworthiness Directives; Eurocopter Deutschland GmbH Helicopters

AGENCY: Federal Aviation Administration (FAA), DOT.

ACTION: Final rule.

SUMMARY: We are adopting a new airworthiness directive (AD) for Eurocopter Deutschland GmbH (Eurocopter) Model EC135 P1, EC135 P2, EC135 P2+, EC135 T1, EC135 T2, EC135 T2+, and MBB-BK 117 C-2 helicopters with a certain external mounted hoist system (hoist) with boom support assembly (boom) installed. This AD requires inspecting the boom for a crack and, if a crack exists, replacing the boom with an airworthy boom. Until the boom is inspected, this AD requires, before further flight, and thereafter before the first flight of each day, checking the hoist for a crack. This AD was prompted by cracks found on the boom during a pre-flight check of a hoist on an MBB-BK 117 C-2 helicopter. The actions of this AD are intended to detect a crack and prevent failure of the boom, loss of the boom and attached loads, and subsequent loss of helicopter control.

DATES: This AD is effective January 31, 2014.

The Director of the Federal Register approved the incorporation by reference of a certain document listed in this AD as of January 31, 2014.

ADDRESSES: For service information identified in this AD, contact American Eurocopter Corporation, 2701 N. Forum Drive, Grand Prairie, TX 75052; telephone (972) 641-0000 or (800) 232-0323; fax (972) 641-3775; or at http://www.eurocopter.com/techpub, and contact UTC Aerospace Systems (formerly the Goodrich Corporation), 2727 East Imperial Highway, Brea, CA 92821; telephone (714) 984-1461; fax 714-984-1675, or at www.goodrich.com. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's ADs, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Wilbanks, Aviation Safety Engineer, Rotorcraft Certification Office, Rotorcraft Directorate, FAA, 2601 Meacham Blvd., Fort Worth, Texas 76137; telephone (817) 222-5110; email matt.wilbanks@faa.gov.

SUPPLEMENTARY INFORMATION:

Discussion

On April 15, 2013, at 78 FR 22209, the Federal Register published our notice of proposed rulemaking (NPRM), which proposed to amend 14 CFR part 39 by adding an AD that would apply to Eurocopter Model EC135 P1, EC135 P2, EC135 P2+, EC135 T1, EC135 T2 and EC135 T2+ helicopters with a Goodrich Corporation (Goodrich) hoist with a boom, Part Number (P/N) 44301-500, 44307-500, or 44307-500-1 installed, and Model MBB-BK 117 C-2 helicopters with a Goodrich hoist with boom P/N 44307-500 installed. The NPRM proposed to require dye penetrant inspecting the boom for a crack and, if a crack exists, replacing the boom with an airworthy boom. Until the inspection is completed, the NPRM proposed to require, before the first flight of each day, a visual check of the hoist for a crack. The NPRM proposed to allow an owner/operator (pilot) holding at least a private pilot certificate to conduct that check. The performance of the check would be required to be entered into the aircraft's maintenance records showing compliance with this AD in accordance with applicable regulations. This authorization marks an exception to our standard maintenance regulations. The proposed requirements were intended to detect a crack and prevent failure of the boom, loss of the boom and attached loads, and subsequent loss of helicopter control.

The NPRM was prompted by AD No. 2010-0154, dated August 13, 2010, issued by the European Aviation Safety Agency (EASA), which is the Technical Agent for the Member States of the European Union. EASA issued AD No. 2010-0154 to correct an unsafe condition for Eurocopter Model MBB-BK 117 C-2, EC135, and EC635 series helicopters. EASA AD No. 2010-0154 supersedes EASA AD No. 2009-0093-E, dated April 17, 2009. EASA advises that cracks were detected on the boom, P/N 44307-500, during a pre-flight check of the hoist on a Model MBB-BK 117 C-2 helicopter. EASA advises that this condition, if not detected and corrected, would impair the structural strength of the boom and could lead to failure of the boom. EASA advises that this could result in the loss of the boom and attached loads. According to EASA, boom P/Ns 44301-500 and 44307-500-1 are of similar design to P/N 44307-500, and therefore are also subject to this unsafe condition. As a result, EASA issued Emergency AD No. 2009-0093-E to require repetitive visual checks of the affected boom and removal or replacement of the boom when cracks are found.

EASA advises that since AD No. 2009-0093-E was issued, further technical investigation determined that torque values that were too high have been applied. EASA advises that Goodrich Corporation, the manufacturer of the affected booms, had developed an inspection that would determine the need for further action. As a result, EASA superseded its AD to include a new inspection to detect damage, by issuing EASA AD No. 2010-0154. EASA AD states that if no damage is found during this new inspection, that constitutes terminating action.

Comments

We gave the public the opportunity to participate in developing this AD, but we received no comments on the NPRM (78 FR 22209, April 15, 2013).

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD requires you to notify and return parts to the manufacturer, and this AD does not. The EASA AD also applies to the Eurocopter EC635 series military helicopters, while this AD does not because these models are not type certificated in the United States.

Related Service Information

Eurocopter has issued Emergency Alert Service Bulletin (EASB) No. EC135-85A-036, Revision 2, dated June 23, 2010, and EASB No. MBB BK117 C-2-85A-024, Revision 1, dated June 23, 2010, which specify a visual check of the boom for cracks, and removing or replacing the boom before the next flight if there is a crack. The EASBs also require compliance with the visual and dye penetrant inspection procedures specified in Goodrich Corporation Service Bulletin 44307-500-03, Revision 2, dated April 30, 2010. EASA classified these EASBs as mandatory, and issued EASA AD No. 2010-0154, dated August 13, 2010, to ensure the continued airworthiness of these helicopters.

Costs of Compliance

We estimate that this AD affects 350 helicopters of U.S. Registry and a labor rate of $85 per work-hour. Based on these estimates, we expect the following costs:

• We estimate that the cost of the daily visual check is minimal.

• We estimate that removing the hoist and boom assembly, performing the dye penetrant inspection, and reinstalling the equipment requires 1.5 work hours. No parts are needed, for a total cost of about $128 per helicopter and $44,800 for the U.S. fleet.

• Replacing the hoist and boom assembly, if needed, requires about a 0.33 work-hour for a labor cost of about $28. Parts cost $10,833 for a total cost of $10,861 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-21-06 Eurocopter Deutschland GmbH Helicopters: Amendment 39-17630; Docket No. FAA-2013-0340; Directorate Identifier 2010-SW-081-AD.

(a) Applicability

This AD applies to Eurocopter Deutschland GmbH (Eurocopter) Model EC135 P1, EC135 P2, EC135 P2+, EC135 T1, EC135 T2, and EC135 T2+ helicopters with a Goodrich Corporation (Goodrich) external mounted hoist system (hoist) with boom support assembly (boom) Part Number (P/N) 44301-500, 44307-500, or 44307-500-1 installed, and Model MBB-BK 117 C-2 helicopters with a Goodrich hoist with boom P/N 44307-500 installed, certificated in any category.

(b) Unsafe Condition

This AD defines the unsafe condition as a crack in the boom. This condition could result in loss of the boom and attached loads, and subsequent loss of helicopter control.

(c) Effective Date

This AD becomes effective January 31, 2014.

(d) Compliance

You are responsible for performing each action required by this AD within the specified compliance time unless it has already been accomplished prior to that time.

(e) Required Actions

(1) Before further flight, and thereafter before the first flight of each day until you have performed the inspection required by paragraph (e)(2) of this AD, clean the hoist and visually check for a crack, paying particular attention to the areas that are circled as depicted in Figure 1 to paragraph (e) of this AD. The actions required by this paragraph may be performed by the owner/operator (pilot) holding at least a private pilot certificate, and must be entered into the aircraft records showing compliance with this AD in accordance with 14 CFR 43.9(a)(1)-(4) and 14 CFR 91.417(a)(2)(v). The record must be maintained as required by 14 CFR 91.417, 121.380, or 135.439.

BILLING CODE 4910-13-P

BILLING CODE 4910-13-C

(2) Within 30 days, perform a dye penetrant inspection of the boom in accordance with the Accomplishment Instructions, Section 2.D, of the Goodrich Service Bulletin 44307-500-03, Revision 2, dated April 30, 2010 (SB).

Note 1 to paragraph (e)(2) of this AD: A copy of the SB is attached to Eurocopter Emergency Alert Service Bulletin (EASB) EC135-85A-036, Revision 2, and Eurocopter EASB MBB BK117 C-2-85A-024, Revision 1, both dated June 23, 2010.

(3) If a crack exists in the boom, replace the cracked boom with an airworthy boom before further flight.

(f) Special Flight Permits

Special flight permits would be allowed provided the hoist is disabled during the ferry flight.

(g) Alternative Methods of Compliance (AMOCs)

(1) The Manager, Safety Management Group, FAA, may approve AMOCs for this AD. Send your proposal to: Matt Wilbanks, Aviation Safety Engineer, Rotorcraft Certification Office, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter EASB EC135-85A-036, Revision 2, and Eurocopter EASB MBB BK117 C-2-85A-024, Revision 1, both dated June 23, 2010, which are not incorporated by reference, contain additional information about the subject of this AD. For Eurocopter service information identified in this AD, contact American Eurocopter Corporation, 2701 N. Forum Drive, Grand Prairie, TX 75052; telephone (972) 641-0000 or (800) 232-0323; fax (972) 641-3775; or at http://www.eurocopter.com/techpub. You may review a copy of the service information at the FAA, Office of the Regional Counsel, Southwest Region, 2601 Meacham Blvd., Room 663, Fort Worth, Texas 76137.

(2) The subject of this AD is addressed in European Aviation Safety Agency (EASA) AD No. 2010-0154, dated August 13, 2010, which supersedes EASA AD No. 2009-0093-E, dated April 17, 2009. You may view the EASA ADs on the Internet at http://www.regulations.gov in Docket No. FAA-2013-0340.

(i) Subject

Joint Aircraft Service Component (JASC) Code: 5345, Fuselage, Equipment Attach Fittings.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Goodrich Service Bulletin 44307-500-03, Revision 2, dated April 30, 2010.

(ii) Reserved.

(3) For Goodrich service information identified in this AD, contact American Eurocopter Corporation, 2701 N. Forum Drive, Grand Prairie, TX 75052; telephone (972) 641-0000 or (800) 232-0323; fax (972) 641-3775; or at http://www.eurocopter.com/techpub, and contact the UTC Aerospace Systems (formerly the Goodrich Corporation), 2727 East Imperial Highway, Brea, CA 92821; telephone (714) 984-1461; fax 714-984-1675, or at www.goodrich.com.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on September 27, 2013.
Lance T. Gant,
Acting Directorate Manager, Rotorcraft Directorate, Aircraft Certification Service.

[FR Doc. 2013-30466 Filed 12-26-13; 8:45 am]

BILLING CODE 4910-13-P